DEPARTMENT OF THE INTERIOR

National Park Service

General Management Plan, Environmental Impact Statement, Sand Creek Massacre National Historic Site, Colorado

AGENCY: National Park Service, Department of the Interior.

ACTION: Notice of Intent to prepare a general management plan and environmental impact statement for the Sand Creek Massacre National Historic Site.

SUMMARY: Under the provisions of the National Environmental Policy Act of 1969, 42 U.S.C. 4332(2)(C), the National Park Service (NPS) is preparing an environmental impact statement (EIS) for a general management plan (GMP) for the Sand Creek Massacre National Historic Site. This effort will analyze the impacts of a broad range of design alternatives for the national historic site. This effort will result in a comprehensive general management plan that provides a framework for making management decisions regarding the preservation of natural and cultural resources, visitor use and interpretation and development of appropriate park facilities. This plan will be developed in cooperation with the Cheyenne-Arapaho Tribe of Oklahoma, the Northern Arapaho Tribe of Wyoming, the Northern Cheyenne Tribe of Montana, and the State of Colorado. Alternatives to be considered include no-action, the proposed action and other reasonable alternatives.

The park superintendent will initiate consultation with congressional delegations, tribal representatives, and state and local agencies on the development of the plan. Consultation with these agencies will continue throughout the planning process.

Public involvement in the planning process will include newsletters and open houses that inform the public of the project and provide opportunities for input; press releases in the local media; newsletters and open houses to present and solicit input on the alternatives; a public review draft of the general management plan and environmental impact statement and public meetings to provide additional opportunities to comment on the draft plan. Public involvement is essential for the development of creative and sustainable management alternatives for the national historic site.

A briefing statement has been prepared that summarizes the specific elements of the general management planning process and the EIS. Copies of that information may be obtained from: Superintendent, Alexa Roberts, Sand Creek Massacre National Historic Site, P.O. Box 249, Eads, CO 81036.

DATES: The Park Service will accept comments from the public through 30 days from date of publication in the Federal Register.

ADDRESSES: Information will be available for public review and comment in the office of the Superintendent, Alexa Roberts, Sand Creek Massacre National Historic Site, P.O. Box 249, Eads, CO 81036 and on the NPS Planning Environment and Public Comment site (PEPC) at http://parkplanning.nps.gov/.

FOR FURTHER INFORMATION: Contact Superintendent Alexa Roberts at 719-438-5916 or e-mail: sand_superintendent@nps.gov.

SUPPLEMENTARY INFORMATION: You may mail comments to: Superintendent's Office, Sand Creek Massacre National Historic Site, P.O. Box 249, Eads, CO 81036. You may also hand-deliver comments to the Superintendent's Office, Sand Creek Massacre National Historic Site, Eads, CO. (Attn: Sand Creek Massacre General Management Plan/Environmental Impact Statement.)

Before including your address, phone number, e-mail address, or other personal identifying information in your comments, you should be aware that your entire comment—including your personal information—may be made publicly available at any time. While you can ask us in your comment to withhold your personal identifying information from public review, we cannot guarantee that we will be able to do so.

Dated: June 21, 2007.
Hal J. Grovert,
Acting Director, Intermountain Region, National Park Service.

[FR Doc. E7-15293 Filed 8-6-07; 8:45 am]

BILLING CODE 4310-52-P